INTERNATIONAL TRADE COMMISSION

[Investigations Nos. 731-TA-926 and 927 (Preliminary)]

Spring Table Grapes From Chile and Mexico

Determinations

On the basis of the record ¹ developed in the subject investigations, the United States International Trade Commission (Commission) determines,² pursuant to section 733(a) of the Tariff Act of 1930 (19 U.S.C. 1673b(a)) (the Act), that there is no reasonable indication that an industry in the United States is materially injured or threatened with material injury, or that the establishment of an industry in the United States is materially retarded, by reason of imports from Chile and Mexico of spring table grapes, provided for in subheading 0806.10.40 of the Harmonized Tariff Schedule of the United States, that are alleged to be sold in the United States at less than fair value (LTFV).

¹ The record is defined in sec. 207.2(f) of the Commission's Rules of Practice and Procedure (19 CFR § 207.2(f)).

² Commissioner Dennis M. Devaney dissenting with respect to imports of spring table grapes from Chile and Mexico.

Background

On March 30, 2001, a petition was filed with the Commission and the United States Department of Commerce (Commerce) by the Desert Grape Growers League, Thermal, CA, and its producer-members, alleging that an industry in the United States is materially injured or threatened with material injury by reason of LTFV imports of spring table grapes from Chile and Mexico. Accordingly, effective March 30, 2001, the Commission instituted antidumping duty investigations Nos. 731-TA-926 and 927 (Preliminary).

Notice of the institution of the Commission's investigations and of a public conference to be held in connection therewith was given by posting copies of the notice in the Office of the Secretary, U.S. International Trade Commission, Washington, DC, and by publishing the notice in the Federal Register of April 5, 2001 (66 FR 18109). The conference was held in Washington, DC, on April 20, 2001, and all persons who requested the opportunity were permitted to appear in person or by counsel.

The Commission transmitted its determinations in these investigations to the Secretary of Commerce on June 11, 2001. The views of the Commission are contained in USITC Publication 3432 (June 2001), entitled Spring Table Grapes From Chile and Mexico: Investigations Nos. 731-TA-926 and 927 (Preliminary).

Issued: June 12, 2001.
By order of the Commission.
Donna R. Koehnke,
Secretary.

[FR Doc. 01-15112 Filed 6-14-01; 8:45 am]

BILLING CODE 7020-02-P